DEPARTMENT OF HEALTH AND HUMAN SERVICES

Centers for Disease Control and Prevention

[30Day-15-14AOO]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agency's estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Monitoring and Reporting System for the Division of Community Health's Cooperative Agreement Programs—New—National Center for Chronic Disease Prevention and Health Promotion (NCCDPHP), Centers for Disease Control and Prevention (CDC).

Background and Brief Description

In September 2014, the Division of Community Health (DCH), Centers for Disease Control and Prevention (CDC), announced 93 awards under three new cooperative agreement programs authorized by the Public Health Service Act and the Prevention and Public Health Fund of the Affordable Care Act (FOA DP14-1417, FOA DP14-1418, and FOA DP14-1419PPHF14). The new programs are designed to address chronic diseases and risk factors for chronic diseases, including physical inactivity, poor diet, obesity, and tobacco use. The programs will provide support for implementation of broad, evidence- and practice-based policy and environmental improvements in a mix of 93 large and small cities, urban rural areas, tribes, multi-sectorial community coalitions, and racial and ethnic communities experiencing chronic disease disparities. Awardees include a combination of 41 state, local, and tribal governmental agencies and 52 non-governmental (private sector) entities.

CDC is seeking OMB approval to collect information from the new DCH awardees utilizing an electronic Policy, Environment, Programmatic, and Infrastructure Database (PEPID) designed to enable the accurate, reliable, uniform and timely submission to CDC of each awardee's work plan and progress reports. Monitoring allows CDC to determine whether an awardee is meeting performance goals, to make adjustments in the type and level of technical assistance provided to them, and to provide oversight of the use of federal funds. The burden per response for routine, semi-annual reporting through PEPID is three hours. The burden estimate also includes a one-time allocation of 15 hours for initial population of the PEPID system, which is annualized over the period of the information collection request.

CDC is also requesting OMB approval to conduct targeted, special purpose information collections on an as-needed basis. Due to substantial interest in the new cooperative agreement programs, CDC estimates that each DCH awardee could be asked to participate in one special purpose information collection per year to supplement routine progress reporting. Each special purpose information collection request will be submitted to OMB for approval through the Change Request mechanism, and will include the data collection instrument(s) and a description of purpose and methods. The ability to conduct special purpose data collections will enable CDC to effectively manage programmatic activities and respond to inquiries. The estimated burden per response for each special data request is six hours.

OMB approval is requested for three years. Participation is required for cooperative agreement awardees. There are no costs to respondents other than their time. The total estimated annualized burden hours are 1,596.

Estimated Annualized Burden Hours
Type of respondents | Form name | Number of respondents | Number of responses per respondent | Average burden per response (in hours)
DCH Program Awardees (state, local and tribal government entities) | DCH PEPID: Initial population | 14 | 1 | 15
| DCH PEPID: Semi-annual reporting | 41 | 2 | 3
| Special PEPID Request | 41 | 1 | 6
DCH Program Awardees (private sector entities) | DCH PEPID: Initial population | 18 | 1 | 15
| DCH PEPID: Semi-annual reporting | 52 | 2 | 3
| Special Data Request | 52 | 1 | 6

Leroy A. Richardson,
Chief, Information Collection Review Office, Office of Scientific Integrity, Office of the Associate Director for Science, Office of the Director, Centers for Disease Control and Prevention.

[FR Doc. 2015-00268 Filed 1-12-15; 8:45 am]

BILLING CODE 4163-18-P